ENVIRONMENTAL PROTECTION AGENCY

40 CFR Part 197

[FRL-7975-6]

RIN 2060-AN15

Notice of Extension of the Public Comment Period, Public Health and Environmental Radiation Protection Standards for Yucca Mountain, NV; Proposed Rule

AGENCY: Environmental Protection Agency (EPA).

ACTION: Proposed rule; extension of comment period and announcement of additional public hearing in Las Vegas on October 6, 2005.

SUMMARY: The Environmental Protection Agency is extending the comment period for the Public Health and Environmental Radiation Protection Standards for Yucca Mountain, Nevada; Proposed Rule which appeared in the Federal Register on August 22, 2003 (68 FR 65120). The public comment period for this proposed rule was to end on October 21, 2005. The purpose of this notice is to extend the comment period to November 21, 2005, and to announce an additional public hearing in Las Vegas on October 6, 2005.

DATES: EPA will accept public comments on this proposed rule until November 21, 2005. Comments received after that date will be marked “late” and accepted at our discretion. The public hearing will be on October 6, 2005 from 11 a.m. to 12. a.m. This hearing will be preceded by an information session from 10 a.m. to 11 a.m.

ADDRESSES: Procedures for preregistering for and testifying at the public hearing are detailed in the “Hearings Procedures” subsection of the SUPPLEMENTARY INFORMATION section. Comments may be submitted by mail to: EPA Docket Center (EPA/DC), Air and Radiation Docket, Environmental Protection Agency, EPA West, Mail Code 6102T, 1200 Pennsylvania Ave., NW., Washington, DC 20460, Attention Docket ID No. OAR-2005-0083. Comments may also be submitted electronically or through hand delivery/courier. Follow the detailed instructions as provided in the SUPPLEMENTARY INFORMATION section.

FOR FURTHER INFORMATION CONTACT: Ray Clark, Office of Radiation and Indoor Air, Radiation Protection Division (6608J), U.S. Environmental Protection Agency, 1200 Pennsylvania Ave., NW., Washington, DC, 20460-0001; telephone (202) 343-9601; fax number: 202-343-2305; e-mail address: clark.ray@epa.gov.

SUPPLEMENTARY INFORMATION:

I. Extension of the Public Comment Period

The proposed rule which is the subject of this notice was published in the Federal Register on August 22, 2005 (70 FR 49014). That notice requested public comment on the proposed amendments to the public health and environmental radiation protection standards for Yucca Mountain, Nevada (40 CFR part 197).

At that time, EPA announced a 60-day public comment period ending on October 21, 2005. However, the Agency has received formal requests from several stakeholders to extend the comment period to 180 days. EPA recognizes the high level of interest in the issue of Yucca Mountain and that the proposed rule addresses safety over unprecedented time frames. Furthermore, the Agency agrees that it is important to allow adequate time for public information to readily reach more rural areas, particularly in Nevada, which may be affected by decisions related to Yucca Mountain. In view of these factors, and in consideration of requests from the stakeholders, EPA is extending the comment period an additional 30 days to end on November 21, 2005. This will provide a full three months for the public to submit comments, as much time as EPA provided for the full Yucca Mountain standards issued in 2001, which covered a significantly wider array of issues.

II. Additional Public Hearing in Las Vegas, Nevada

EPA is also adding an additional day, October 6, 2006, for a public hearing in Las Vegas, to respond to concerns about schedule conflicts with religious holidays. Hearings for two days (October 4 and October 5) in Las Vegas were announced in a previous Federal Register notice published on September 14, 2005 (70 FR 54325-54327). That notice also announced hearings in Amargosa Valley, Nevada and in Washington, DC. The hearings previously announced in the Federal Register will be held as described in the earlier notice; EPA is simply providing an additional hearing in Las Vegas.

The additional hearing will be held October 6, 2005, at the Cashman Center, 850 North Las Vegas Blvd, Las Vegas, Nevada, from 10 a.m. until 12 p.m. An information session will be held from 10 a.m.-11 a.m. and a public hearing from 11 a.m.-12 p.m.

Meeting Purpose and Format

The meetings will provide opportunities for both informal exchanges of information and formal comments. Meeting formats are as follows:

• Information Sessions: an informal opportunity to learn about the standards, meet EPA staff, and ask questions. Comments on the record can also be provided in writing or on tape.

• Public Hearings: a formal opportunity to make verbal statements that will be recorded for the public record. For the convenience of the public, individuals and organizations should schedule a specific time to make their comments (see Hearings Procedures below).

Hearing Procedures

Persons wishing to testify at any of the public hearings are requested to pre-register by calling EPA's toll-free Yucca Mountain Information Line at 1-800-331-9477 at any time. You will be asked to leave a message with the following information:

• Name/Organizational Affiliation (if any).

• Hearing time(s) available to testify.

• Daytime telephone number.

Your call will be returned within one business day to confirm a scheduled time for testimony. In order to obtain a scheduled speaking time, EPA must receive requests no later than September 30, 2005, for the hearings in Las Vegas, Nevada. Speakers not registered in advance may register at the door but are not guaranteed the opportunity to testify, depending on time constraints (all individuals will also be able to comment in writing or on tape). Individuals testifying on their own behalf will be allowed 5 minutes. Groups or organizations must designate one individual to testify as the official representative, and each group will be allocated ten minutes for an oral presentation. Individuals and organizations may submit written comments in addition to oral testimony. Time allowed is exclusive of any time consumed by questions from the government panel and answers to these questions. Testimony from individuals and representatives of organizations is limited to one hearing location. In order to ensure that all individuals and groups are given an opportunity to testify, substitutions will not be permitted for any pre-registered person. Registrants will not be permitted to yield their time to other individuals or groups, nor will hearing time be used to “read into the record” testimony from individuals not present at the hearings. In the event any person wishes to enter comments for the record, but either cannot or does not appear personally at the hearings, EPA will accept written comments during the hearings and other meetings. These written comments will be considered to the same extent as oral testimony and will be included as part of the official hearings transcripts. The hearing transcript will constitute the official record of the hearings. Written comments submitted outside of the public hearings must be received by EPA Docket OAR-2005-0083 in Washington, DC, by November 21, 2005. All comments received by EPA, whether written or oral, will be given equal consideration in development of the final rule.

III. How and to Whom Do I Submit Comments?

EPA is providing numerous ways for the public to provide comments for us to consider in developing our final rule. First, the Agency has scheduled two public hearings in Nevada and one in Washington, DC. A Federal Register notice has been published with times, locations, and format of the meetings. In addition, you may submit comments electronically, by mail, by facsimile, or through hand delivery/courier. To ensure proper receipt by EPA, identify the appropriate docket identification number in the subject line on the first page of your comment. Please ensure that your comments are submitted by November 21, 2005. Comments received after that date will be marked “late.” EPA is not required to consider these late comments, but will do so at its discretion.

To submit comments electronically:

• Follow the instructions at the Federal e-Rulemaking Web site: http://www.regulations.gov, OR

• Go to EPA's E-Docket for item OAR-2005-0083, click on submit comment, OR,

• E-mail comments to: a-and-r-docket@epa.gov and specify “to the attention of Docket ID No. OAR-2005-0083.”

Do not use e-mail or the E-Docket to submit confidential business information or other legally protected information.

Send comments by surface mail to:

EPA Docket Center (EPA/DC), Air and Radiation Docket, Environmental Protection Agency, EPA West, Mail Code 6102T, 1200 Pennsylvania Avenue, NW., Washington, DC 20460, Attention Docket ID No. OAR-2005-0083.

Send comments by fax to: 202-566-1741, Attention: Docket ID. No. OAR-2005-0083.

Deliver comments by courier or in-person to:

Air and Radiation Docket, EPA Docket Center, (EPA/DC), EPA West, Room B102, 1301 Constitution Ave., NW., Washington, DC.

Dated: September 20, 2005.
William L. Wehrum,
Acting Assistant Administrator for Air and Radiation.

[FR Doc. 05-19256 Filed 9-26-05; 8:45 am]

BILLING CODE 6560-50-P